DEPARTMENT OF TRANSPORTATION

Pipeline and Hazardous Materials Safety Administration

[Docket No. PHMSA-2016-0028]

Pipeline Safety: Request for Special Permit

AGENCY: Pipeline and Hazardous Materials Safety Administration (PHMSA); DOT.

ACTION: Notice.

SUMMARY: Pursuant to the Federal Pipeline Safety Laws, PHMSA is publishing this notice of a special permit request we have received from TransMontaigne Operating Company L.P. (TOC), a hazardous liquid pipeline operator, seeking relief from compliance with certain requirements in the Federal pipeline safety regulations. This notice seeks public comments on this request, including comments on any safety or environmental impacts. At the conclusion of the 30-day comment period, PHMSA will evaluate the request and determine whether to grant or deny a special permit.

DATES: Submit any comments regarding this special permit request by June 2, 2016.

ADDRESSES: Comments should reference the docket number for this specific special permit request and may be submitted in the following ways:

• E-Gov Web site: http://www.Regulations.gov. This site allows the public to enter comments on any Federal Register notice issued by any agency.

• Fax: 1-202-493-2251.

• Mail: Docket Management System: U.S. Department of Transportation (DOT), Docket Operations, M-30, West Building Ground Floor, Room W12-140, 1200 New Jersey Avenue SE., Washington, DC 20590.

• Hand Delivery: DOT Docket Management System: DOT, Docket Operations, M-30, West Building Ground Floor, Room W12-140, 1200 New Jersey Avenue SE., Washington, DC 20590 between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: Comments are posted without changes or edits to http://www.Regulations.gov, including any personal information provided. There is a privacy statement published at http://www.Regulations.gov.

FOR FURTHER INFORMATION CONTACT: General: Kay McIver by telephone at 202-366-0113 or email at kay.mciver@dot.gov or Todd DelVecchio by telephone at 202-748-2597 or email at todd.delvecchio@dot.gov.

Technical: Vincent Holohan by telephone at 202-366-1933 or email at vincent.holohan@dot.gov.

SUPPLEMENTARY INFORMATION: PHMSA has received this request for a special permit from TOC seeking relief from compliance with certain pipeline safety regulations. TOC's request includes a technical analysis. This request can be found at http://www.Regulations.gov under docket number PHMSA-2016-0028. We invite interested persons to participate by reviewing this special permit request at http://www.Regulations.gov, and by submitting written comments, data or other views.

Before acting on this special permit request, PHMSA will evaluate all comments received on or before the closing date of the comment period. Comments received after the closing date will be evaluated if it is possible to do so without incurring additional expense or delay. PHMSA will consider each relevant comment we receive in making our decision to grant or deny a request.

PHMSA has received the following special permit request:

Docket No. | Requester | Regulation affected | Nature of special permit
PHMSA-2016-0028 | TransMontaigne Operating Company L.P. (TOC) | 49 CFR 195.3 and 195.132(3) | To authorize TOC to construct above ground storage tanks at TOC's Collins, Mississippi Storage Facility to the most current edition of API 650 incorporated in § 195.3. “Welded Steel Tanks for Oil Storage” (12th edition, Add. 1 September 2014).

Issued in Washington, DC, on April 28, 2016, under authority delegated in 49 U.S.C. 60118(c)(1) and 49 CFR 1.97.

Alan K. Mayberry,
Deputy Associate Administrator for Policy and Programs.

[FR Doc. 2016-10326 Filed 5-2-16; 8:45 am]

BILLING CODE 4910-60-P